COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add to the Procurement List products and services to be furnished by nonprofit agencies employing persons who are blind or have other severe disabilities.

Comments must be received on or before: June 22, 2008.

ADDRESSES: Committee for Purchase From People Who Are Blind or Severely Disabled, Jefferson Plaza 2, Suite 10800, 1421 Jefferson Davis Highway, Arlington, Virginia, 22202-3259.

For Further Information or to Submit Comments Contact: Kimberly M. Zeich, Telephone: (703) 603-7740, Fax: (703) 603-0655, or e-mail CMTEFedReg@jwod.gov.

SUPPLEMENTARY INFORMATION: This notice is published pursuant to 41 U.S.C. 47(a)(2) and 41 CFR 51-2.3. Its purpose is to provide interested persons an opportunity to submit comments on the proposed actions.

If the Committee approves the proposed additions, the entities of the Federal Government identified in the notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Insulation Panels & Blanket

NSN: 2510-01-251-8548—Thermal.

NSN: 2510-01-335-7363—Vehicular Cab.

NSN: 2510-01-421-8067—Vehicular Cab.

NSN: 2510-01-251-9995—Vehicular Cab.

Coverage: C-List for the requirements of the Defense Supply Center Columbus.

NPA: New York City Industries for the Blind, Inc., Brooklyn, NY.

Contracting Activity: Defense Supply Center Columbus, Columbus, OH.

Tape, Double-Sided

NSN: 7510-00-NIB-0826.

NSN: 7510-00-NIB-0827.

Coverage: A-List for the total Government requirements as specified by the General Services Administration.

NSN: 7510-00-NIB-0825.

Coverage: B-List for the broad Government requirement as specified by the General Services Administration.

NPA: Alphapointe Association for the Blind, Kansas City, MO.

Contracting Activity: General Services Administration, Office Supplies & Paper Products Acquisition Ctr, New York, NY.

Services

Service Type/Location: Custodial Services, John F. Kennedy Space Center, NASA Kennedy Space Center, Kennedy Space Center, FL.

NPA: Brevard Achievement Center, Inc., Rockledge, FL.

Contracting Activity: Kennedy Space Center, Kennedy Space Center, FL.

Service Type/Location: Food Service Attendant, 183rd Capitol Airport, Air National Guard Base, 3101 J. David Jones Parkway, Springfield, IL.

NPA: United Cerebral Palsy of the Land of Lincoln, Springfield, IL.

Contracting Activity: United States Air Force, 183rd Fighter Wing, Air National Guard, Springfield, IL.

Service Type/Location: Food Service Attendant, Ohio Air National Guard Base, 179th Airlift Wing, 1947 Harrington Memorial Road, Dining Hall Bldg. 420B, Mansfield, OH.

NPA: Rehabilitation Service of North Central Ohio, Inc., Mansfield, OH.

Contracting Activity: Air National Guard, 179th Airlift Group, Mansfield, OH.

Kimberly M. Zeich,
Director, Program Operations.

[FR Doc. E8-11607 Filed 5-22-08; 8:45 am]

BILLING CODE 6353-01-P